DEPARTMENT OF TRANSPORTATION

Federal Aviation Administration

14 CFR Part 39

[Docket No. FAA-2014-0424; Directorate Identifier 2014-NM-003-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model BD-700-1A10 and BD-700-1A11 airplanes. This proposed AD was prompted by reports of an incorrectly assembled check tee fitting used in fire extinguishing (FIREEX) distribution lines. This proposed AD would require inspecting to determine the part number and for all affected check tee fittings measuring for correct depth, and replacing if necessary. We are proposing this AD to detect and correct faulty check tee fittings, which will reduce fire extinguishing protection.

DATES: We must receive comments on this proposed AD by August 15, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact—Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0424; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Comments Invited

We invite you to send any written relevant data, views, or arguments about this proposed AD. Send your comments to an address listed under the ADDRESSES section. Include “Docket No. FAA-2014-0424; Directorate Identifier 2014-NM-003-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation, which is the aviation authority for Canada, has issued Canadian Airworthiness Directive CF-2013-41, dated December 30, 2013 (referred to after this as the Mandatory Continuing Airworthiness Information, or “the MCAI”), to correct an unsafe condition for the specified products. The MCAI states:

A check tee fitting used in the aeroplane fire extinguishing (FIREEX) distribution lines, was discovered by another airframe manufacturer as being incorrectly assembled. A properly assembled check tee fitting normally contains one check ball, however the affected fitting contained two check balls. The FIREEX manufacturer advised Bombardier that this condition may be present on aeroplane models BD-700-1A10 and BD-700-1A11.

Testing has verified that incorrect installation of the additional check ball in the fitting reduces the flow rate of the extinguishing agent. There are three check tee fittings installed on the BD-700-1A10 and BD-700-1A11 aeroplanes, one for each engine and one for the auxiliary power unit. Faulty fittings will reduce fire extinguishing protection at the affected locations.

Bombardier has issued several Alert Service Bulletins (ASBs) to identify, inspect and replace if required, all affected fittings. This [Canadian] AD mandates incorporation of the applicable Bombardier ASBs to rectify this problem.

Required actions include inspecting to determine the part number and for all affected check tee fittings measuring for correct depth, and replacing if necessary. You may examine the MCAI in the AD docket on the Internet at http://www.regulations.gov by searching for and locating it in Docket No. FAA-2014-0424.

Relevant Service Information

Bombardier, Inc. has issued the following service bulletins. The actions described in this service information are intended to correct the unsafe condition identified in the MCAI.

• Bombardier Alert Service Bulletin A700-1A11-26-003, dated April 18, 2013 (for Model BD-700-1A11 (BD-700) airplanes having S/Ns 9127 through 9383 inclusive; 9389 through 9400 inclusive, 9404 through 9431 inclusive, and 9998).

• Bombardier Alert Service Bulletin A700-26-010, dated April 18, 2013 (for Model BD-700-1A10 (BD-700) airplanes having S/Ns 9002 through 9312 inclusive, 9314 through 9380 inclusive, and 9384 through 9429 inclusive).

• Bombardier Alert Service Bulletin A700-26-5002, dated April 18, 2013 (for Model BD-700-1A11 (BD-700) airplanes having S/Ns 9386, 9401, and 9445 through 9498 inclusive).

• Bombardier Alert Service Bulletin A700-26-6002, dated April 18, 2013 (for Model BD-700-1A10 (BD-700) airplanes having S/Ns 9313, 9381, and 9432 through 9500 inclusive).

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 57 airplanes of U.S. registry.

We also estimate that it would take about 1 work-hour per product to comply with the basic requirements of this proposed AD. The average labor rate is $85 per work-hour. Required parts would cost about $0 per product. Based on these figures, we estimate the cost of this proposed AD on U.S. operators to be $4,845, or $85 per product.

In addition, we estimate that any necessary follow-on actions would take about 1 work-hour, for a cost of $85 per tee fitting. We have no way of determining the number of aircraft that might need this action.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2014-0424; Directorate Identifier 2014-NM-003-AD.

(a) Comments Due Date

We must receive comments by August 15, 2014.

(b) Affected ADs

None.

(c) Applicability

This AD applies to Bombardier, Inc. Model BD-700-1A10 and BD-700-1A11 airplanes, certificated in any category, serial numbers 9002 through 9500 inclusive, and 9998.

(d) Subject

Air Transport Association (ATA) of America Code 26, Fire Protection.

(e) Reason

This AD was prompted by reports of an incorrectly assembled check tee fitting used in fire extinguishing (FIREEX) distribution lines. We are issuing this AD to detect and correct faulty check tee fittings, which will reduce fire extinguishing protection.

(f) Compliance

Comply with this AD within the compliance times specified, unless already done.

(g) Part Number Identification

Within 100 flight hours or 180 days, whichever occurs first after the effective date of this AD, inspect to determine the part number (P/N) of the fire extinguishing (FIREEX) check tee fitting, in accordance with the Accomplishment Instructions of the applicable service bulletin identified in paragraph (g)(1), (g)(2), (g)(3), or (g)(4) of this AD.

(1) Bombardier Alert Service Bulletin A700-1A11-26-003, dated April 18, 2013 (for Model BD-700-1A11 (BD-700) airplanes having S/Ns 9127 through 9383 inclusive; 9389 through 9400 inclusive, 9404 through 9431 inclusive, and 9998).

(2) Bombardier Alert Service Bulletin A700-26-010, dated April 18, 2013 (for Model BD-700-1A10 (BD-700) airplanes having S/Ns 9002 through 9312 inclusive, 9314 through 9380 inclusive, and 9384 through 9429 inclusive).

(3) Bombardier Alert Service Bulletin A700-26-5002, dated April 18, 2013 (for Model BD-700-1A11 (BD-700) airplanes having S/Ns 9386, 9401, and 9445 through 9498 inclusive).

(4) Bombardier Alert Service Bulletin A700-26-6002, dated April 18, 2013 (for Model BD-700-1A10 (BD-700) airplanes having S/Ns 9313, 9381, and 9432 through 9500 inclusive).

(h) Measurement and Replacement

If any inspection specified in paragraph (g) of this AD reveals any check tee fitting having P/N 446651 and S/N 062 through 070 inclusive, 117 through 133 inclusive, 3728 through 3731 inclusive, 3733 through 3760 inclusive, or 3762 through 3776 inclusive: Within 100 flight hours or 180 days, whichever occurs first after the effective date of this AD, measure the depth of the inlet fitting of the check tee, in accordance with the Accomplishment Instructions of the applicable service bulletin identified in paragraph (g)(1), (g)(2), (g)(3), or (g)(4) of this AD. If the check tee depth is less than 1.70 inches (4.32 cm), before further flight, replace the check tee in accordance with the Accomplishment Instructions of the applicable service bulletin identified in paragraph (g)(1), (g)(2), (g)(3), or (g)(4) of this AD.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the DAH with a State of Design Authority's design organization approval, as applicable). You are required to ensure the product is airworthy before it is returned to service.

(j) Related Information

(1) Refer to Mandatory Continuing Airworthiness Information (MCAI) Canadian Airworthiness Directive CF-2013-41, dated December 30, 2013, for related information. This MCAI may be found in the AD docket on the Internet at http://www.regulations.gov by searching for and locating it in Docket No. FAA-2014-0424.

(2) For Bombardier service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on June 19, 2014.
Michael Kaszycki,
Acting Manager, Transport Airplane Directorate, Aircraft Certification Service.

[FR Doc. 2014-15378 Filed 6-30-14; 8:45 am]

BILLING CODE 4910-13-P